DEPARTMENT OF HOUSING AND URBAN DEVELOPMENT

24 CFR Chapter IX

[Docket No. FR-5650-N-01]

Native American Housing Assistance and Self-Determination Act of 1996: Notice of Intent To Initiate Negotiated Rulemaking

AGENCY: Office of Assistant Secretary for Public and Indian Housing, HUD.

ACTION: Notice of intent to initiate Negotiated Rulemaking.

SUMMARY: This document announces HUD's intention to initiate Negotiated Rulemaking under the Negotiated Rulemaking Act for the purpose of developing regulatory changes to the funding formula for the Indian Housing Block Grant (IHBG) program authorized under the Native American Housing Assistance and Self-Determination Act of 1996 (NAHASDA). This document provides background information on the NAHASDA program and describes the steps in the negotiated rulemaking process.

FOR FURTHER INFORMATION CONTACT: Rodger J. Boyd, Deputy Assistant Secretary for Native American Programs, Office of Public and Indian Housing, Department of Housing and Urban Development, 451 7th Street SW., Room 4126, Washington, DC 20410-5000, telephone at 202-401-7914 (this is not a toll-free number). Persons with hearing or speech impediments may access this number through TTY by calling the toll-free Federal Relay Service at 800-877-8339 (this is a toll-free number).

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation and using the procedures of the Negotiated Rulemaking Act of 1990 (5 U.S.C. 561-570).

Under the IHBG program, HUD makes assistance available to eligible Indian tribes for affordable housing activities. The amount of assistance made available to each Indian tribe is determined using a formula that was developed as part of the NAHASDA negotiated rulemaking process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

Through this document, HUD announces its intent to initiate Negotiated Rulemaking to review the IHBG formula as required by program regulations. This document also provides an overview of the next steps in the negotiated rulemaking process.

II. Negotiated Rulemaking

The basic concept of negotiated rulemaking is to have the agency that is developing a regulation bring together representatives of affected interests for face-to-face negotiations. The give-and-take of the negotiation process is expected to foster constructive, creative and acceptable solutions to difficult problems.

Section 564 of the Negotiated Rulemaking Act of 1990 requires that an agency publish document(s) in the Federal Register to do the following: announce its intent to establish a negotiated rulemaking committee; to solicit nominations for selection to the committee; to provide a list of the proposed committee membership, and to provide certain other information regarding the formation of the committee. HUD intends to publish such documents in the near future.

Dated: June 26, 2012.
Sandra Henriquez,
Assistant Secretary for Public and Indian Housing.

[FR Doc. 2012-16146 Filed 7-2-12; 8:45 am]

BILLING CODE 4210-67-P